DEPARTMENT OF THE INTERIOR

Fish and Wildlife Service

[Docket No. FWS-R3-ES-2024-0088; FXES11140300000-245-FF03E00000]

Draft Environmental Assessment and Proposed Habitat Conservation Plan; Receipt of an Application for an Amended Incidental Take Permit, Cardinal Point Wind Project, McDonough and Warren Counties, Illinois

AGENCY: Fish and Wildlife Service, Interior.

ACTION: Notice of availability; request for comment and information.

SUMMARY: We, the U.S. Fish and Wildlife Service (Service), have received an application from Cardinal Point Wind Farm, LLC (applicant), to amend its existing incidental take permit (ITP) under the Endangered Species Act, for its Cardinal Point Wind Project (project). The applicant requests that the ITP be amended to include an increased take authorization for the tricolored bat. We request public comment on the application, which includes the applicant's revised HCP, and the Service's draft supplemental environmental assessment, prepared pursuant to the National Environmental Policy Act. The Service provides this notice to seek comments from the public and Federal, Tribal, State, and local governments.

DATES: We will accept comments received or postmarked on or before August 5, 2024.

ADDRESSES: Obtaining Documents: Electronic copies of the documents this notice announces, along with public comments received, will be available online in Docket No. FWS-R3-ES-2024-0088 at https://www.regulations.gov.

Submitting Comments: If you wish to submit comments on any of the documents, you may do so in writing by one of the following methods:

• Online: https://www.regulations.gov. Follow the instructions for submitting comments on Docket No. FWS-R3-ES-2024-0088.

• U.S. mail: Public Comments Processing, Attn: Docket No. FWS-R3-ES-2024-0088; U.S. Fish and Wildlife Service; 5275 Leesburg Pike, MS: PRB/3W; Falls Church, VA 22041-3803.

FOR FURTHER INFORMATION CONTACT: Kraig McPeek, Field Supervisor, Illinois-Iowa Ecological Services Field Office, by email at kraig_mcpeek@fws.gov or by telephone at 309-757-5800, extension 202; or Andrew Horton, Regional HCP Coordinator, by email at andrew_horton@fws.gov or by telephone at 612-713-5337. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received an application from Cardinal Point Wind Farm, LLC (applicant), to amend its existing incidental take permit (ITP) for four bat species under the Endangered Species Act, for its Cardinal Point Wind Project (project). The applicant requests that the ITP be amended to include an increased take authorization for the tricolored bat. The taking will be incidental to the otherwise lawful activities associated with the project. The applicant will continue the original conservation program to minimize and mitigate for the unavoidable incidental take as described in their habitat conservation plan (HCP) and will now include additional mitigation for the tricolored bat as well as updated adaptive management measures. The Service requests public comment on the application, which includes the applicant's revised HCP, and the Service's draft supplemental environmental assessment, prepared pursuant to the National Environmental Policy Act. The Service provides this notice to seek comments from the public and Federal, Tribal, State, and local governments.

Background

Section 9 of the Endangered Species Act of 1973, as amended (ESA; 16 U.S.C. 1531 et seq.), and its implementing regulations prohibit the “take” of animal species listed as endangered or threatened. Take is defined under the ESA as to “harass, harm, pursue, hunt, shoot, wound, kill, trap, capture, or collect “listed animal species,” or to attempt to engage in such conduct” (16 U.S.C. 1538). However, under section 10(a) of the ESA, we may issue permits to authorize incidental take of listed species. “Incidental take” is defined by the ESA as take that is incidental to, and not the purpose of, carrying out an otherwise lawful activity. Regulations governing incidental take permits for endangered and threatened species, respectively, are found in the Code of Federal Regulations at 50 CFR 17.22 and 50 CFR 17.32.

On June 27, 2023, we published a Federal Register notice announcing receipt of an application for an ITP from the applicant, and opened a 30-day comment period, which ended on July 27, 2023 (88 FR 41655). After determining that the application met the requirements of section 10(a) of the ESA and evaluating the effects of the proposed take pursuant to section 7 of the ESA. we determined that the permit issuance criteria of section 10(a)(l)(B) of the ESA were met and issued the requested ITP.

Applicant's Proposed Project

The applicant requests an amendment to the existing ITP for take of the federally endangered Indiana bat (Myotis sodalis), federally endangered northern long-eared bat (Myotis septentrionalis), the tricolored bat (Perimyotis subflavus; proposed for listing) and the unlisted little brown bat (Myotis lucifugus). The applicant determined through post-permit monitoring that take of tricolored bats at the 60-turbine wind project is very likely to exceed their currently permitted level; therefore, they are requesting a revised take authorization for this species only. The currently authorized take rate for the tricolored bat is 3 per year for the 6-year permit duration, for a total authorized ITP take of 18. The new requested take rate for the tricolored bat is 25 per year for the permit duration, to reflect changes to the project, bringing the total authorized ITP take to 150.

The Service requests public comments on the permit application, which includes an amended HCP, and a supplemental EA prepared in accordance with the National Environmental Policy Act (NEPA; 42 U.S.C. 4321 et seq.).

The applicant's HCP and amendments describe the activities that will be undertaken to implement the project, as well as the mitigation and minimization measures proposed to address the impacts to the covered species. Pursuant to NEPA, the supplemental EA analyzes the impacts the ITP amendment would have on the tricolored bat and the environment.

National Environmental Policy Act

The issuance of an ITP is a Federal action that triggers the need for compliance with NEPA. We prepared a draft supplemental EA that analyzes the environmental impacts on the human environment resulting from two alternatives: A no-action alternative, and the applicant's proposed action of amending the ITP.

Request for Public Comments

The Service invites comments and suggestions from all interested parties during a 30-day public comment period (see DATES). In particular, information and comments regarding the following topics are requested:

1. The direct, indirect, or cumulative effects that implementation of any alternative could have on the human environment;

2. Whether or not the significance of the impact on various aspects of the human environment has been adequately analyzed; and

3. Any other information pertinent to evaluating the effects of the proposed action on the human environment.

Availability of Public Comments

You may submit comments by one of the methods shown under ADDRESSES. We will post on https://regulations.gov all public comments and information received electronically or via hardcopy. All comments received, including names and addresses, will become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

The Service will evaluate the permit amendment application and the comments received to determine whether the application meets the requirements of section 10(a) of the ESA. We will also reinitiate our intra-Service consultation pursuant to section 7 of the ESA to evaluate the effects of the proposed changes. After considering the above findings, we will determine whether the permit issuance criteria of section 10(a)(l)(B) of the ESA have been met. If met, the Service will issue the requested amended ITP to the applicant.

Authority

We provide this notice under section 10(c) of the ESA (16 U.S.C. 1531 et seq.) and its implementing regulations (50 CFR 17.22) and the NEPA (42 U.S.C. 4321 et seq.) and its implementing regulations (40 CFR 1506.6; 43 CFR part 46).

Lori Nordstrom,
Assistant Regional Director, Ecological Services.

[FR Doc. 2024-14757 Filed 7-3-24; 8:45 am]

BILLING CODE 4333-15-P